DEPARTMENT OF DEFENSE

Department of the Army, Corps of Engineers

Intent To Prepare a Draft Environmental Impact Statement (DEIS) for the South Shore, Staten Island, New York, Beach Erosion Control and Storm Damage Protection Study: Feasibility Phase

AGENCY: U.S. Army Corps of Engineers, DoD.

ACTION: Notice of Intent.

SUMMARY: The New York District of the U.S. Army Corps of Engineers is preparing a Draft Environmental Impact Statement (DEIS) to ascertain compliance with and to lead to the production of a National Environmental Policy Act (NEPA) document in accordance with the President's Council of Environmental Quality (CEQ) Rules and Regulations, as defined and amended in 40 Code Federal Regulations (CFR) Parts 1500-1508, Corps' Principals and Guidelines as defined in Engineering Regulation (ER) 1105-2-100 and (ER) 1105-1-200 and other applicable Federal and State environmental laws for the proposed beach erosion control and storm damage protection improvements to the south shore of Staten Island, New York.

The study area includes New York Harbor (Lower Bay), western Atlantic Ocean, southern Staten Island shoreline consisting of approximately 13 miles of coast in the Borough of Staten Island from Ft. Wadsworth to Tottenville.

FOR FURTHER INFORMATION CONTACT: To request additional information, please contact Jenine Gallo, Project Biologist at (212) 264-0912, Planning Division, Corps of Engineers, New York District, 26 Federal Plaza, New York, New York 10278-0090.

SUPPLEMENTARY INFORMATION: This study is authorized by a resolution of the U.S. House of Representatives Committee on Public Works and Transportation and adopted May 13, 1993 which reads:

“The Secretary of the Army, acting through the Chief of Engineers, is requested to review the report of the Chief of Engineers on the Staten Island Coast from Fort Wadsworth to Arthur Kill, New York, published as House Document 181, Eighty-ninth Congress, First Session, and other pertinent reports, to determine whether modifications of the recommendations contained therein are advisable at the present time, in the interest of beach erosion control and storm damage reduction and related purposes on the South Shore of Staten Island, New York, particularly in and adjacent to the communities of New Dorp Beach, Oakwood Beach and Annandale Beach, New York.

1. Description of the Previously Authorized Project: The Federal project authorized in House Document 181, 89th Congress (October 27, 1965), 1st Session provided combined shore and hurricane protection between Ft. Wadsworth and Tottenville Beach; shore protection at Great Kills Park and between Arbutus Lake and Sequine Point. The recommended protective works included beach fill with dunes, groins, levees, floodwalls, interior drainage facilities including pumping stations and relocations. The authorized project was not constructed due to a lack of non-Federal support. The current study is based upon renewed local interest expressed by the New York State Department of Environmental Conservation and the New York City Department of Environmental Protection.

2. Two types of environmental analysis will be conducted; impacts associated with structural and non-structural storm damage reduction improvements and non-structural shore protection improvements, including sand borrow area investigations and analyses required for mitigation planning purposes.

3. Public scoping meeting(s) are expected to be scheduled in April 2001. Meeting(s) will be held in Staten Island at locations not yet determined. Results from the public scoping meeting(s) with the District and Federal, state and local agency coordination will be addressed in the DEIS. Parties interested in receiving notices of public scoping meeting(s) or copies of the Scoping Document should contact Jenine Gallo at the above address.

4. Federal agencies interested in participating as a Cooperating Agency are requested to submit a letter of intent to Colonel William H. Pearce, District Engineer at the above address.

5. Estimated Date of DEIS availability: December 2003.

Frank Santomauro,
Chief, Planning Division.

[FR Doc. 01-2777 Filed 1-31-01; 8:45 am]

BILLING CODE 3710-06-M